DEPARTMENT OF THE INTERIOR

Bureau of Indian Affairs

Notice of Intent To Prepare an Environmental Impact Statement for the Proposed Skull Valley Goshute Tekoi Balefield Landfill Project, Tooele County, UT

AGENCY: Bureau of Indian Affairs, Interior.

ACTION: Notice.

SUMMARY: This notice advises the public that the Bureau of Indian Affairs, in cooperation with the Skull Valley Band of Goshute Indians, will be gathering information needed for an Environmental Impact Statement (EIS). The information on the EIS will be used to support a lease to a private company to construct and operate a landfill and to develop the necessary infrastructure. The purpose of this project is to help provide an economic base for the tribe while helping the Salt Lake City area to dispose of non-hazardous wastes. We also are announcing public scoping meetings at this time.

DATES: Written comments on the scope and implementation of this proposal must arrive by November 5, 2003. The public scoping meetings will be held on October 21 and 22, 2003, from 6:30 p.m. to 8:30 p.m.

ADDRESSES: You may mail, hand carry or telefax written comments to either (1) Amy L. Heuslein, Regional Environmental Protection Officer, Bureau of Indian Affairs, Western Regional Office, P.O. Box 10, Phoenix, Arizona 85001, telefax (602) 379-3833; or (2) Chester Mills, Superintendent, Bureau of Indian Affairs, Uintah and Ouray Agency, P.O. Box 130, Fort Duchesne, Utah 84026, telefax (435) 722-2323.

The October 21, 2003, public scoping meeting will be held at the Utah State Extension Auditorium, 151 North Main Street, Tooele, Utah. The October 22, 2003, meeting will be held at the Little America Hotel, 500 South Main Street, Salt Lake City, Utah.

FOR FURTHER INFORMATION CONTACT: Amy Heuslein, (602) 379-6750, or Chester Mills, (435) 722-4300.

SUPPLEMENTARY INFORMATION: The EIS will assess the environmental consequences of BIA approval of a proposed lease between the CR Group, the lessee, and the Skull Valley Band of Goshute Indians (Band), the lessor, of approximately 500 acres in the southwest Section 18, Range 8W, Township 5S, NAD 27, Tooele County, Utah. This section is approximately 2 miles west of Skull Valley Road on the reservation. The leased property will occupy the southwest 75 percent of the section. The property is located approximately 50 miles southwest of Salt Lake City, Utah. The CR Group intends to construct and operate a solid waste landfill on this property for a period of 25 years, with an option to renew the lease for another 25 years.

The proposed landfill will meet or exceed all applicable criteria of the Environmental Protection Agency (EPA) for such landfills, including, without limitation, the design criteria set forth in 40 CFR part 258. The landfill will be constructed with the appropriate impermeable lining material, and will only accept non-hazardous municipal and/or industrial solid waste. Limited ancillary facilities consisting of a truck scale, scale house and small administrative office will be constructed at the site, and an approximately 3-mile long road on the reservation constructed to provide access to and from the landfill.

The solid waste will be compressed, de-watered and baled before transportation to the landfill. The baled solid waste will be transported to the landfill in containers, using primarily flatbed trucks. It is anticipated that the majority of the waste will come from the Salt Lake City, Utah area. The transportation route is expected to be via Interstate 80 westward from the Salt Lake City area, then southward approximately 27 miles on Skull Valley Road to the proposed landfill site on the reservation.

The proposed landfill will consist of separate cells. The baled solid waste will be stacked in the cells. Separate cells will be used for municipal and industrial waste. As individual cells are filled and closed, they will be covered with lining and soil and re-vegetated consistent with EPA regulations and with BIA and tribal requirements. The CR Group will provide construction and reclamation bonds suitable to both the BIA and the Band.

Water for construction and operation of the landfill will be obtained from wells drilled on the reservation. These wells will be within 1 mile of the proposed site. Electricity will be generated using the collected landfill gas in an internal combustion engine-generator set.

Significant issues to be covered during the scoping process may include, but not be limited to, air quality, geology and soils, surface and groundwater resources, biological resources, cultural resources, socioeconomic conditions, land use, aesthetics, environmental justice and Indian trust resources.

Public Comment Availability

Comments, including names and addresses of respondents, will be available for public review at the mailing address shown in the ADDRESSES section, during regular business hours, 8 a.m. to 4:30 p.m., Monday through Friday, except holidays. Individual respondents who prefer confidentiality and wish to have their name and/or address withheld from public review or from disclosure under the Freedom of Information Act, must state this prominently at the beginning of their written comment. Such requests will be honored to the extent allowed by law. We will not, however, consider anonymous comments. All submissions from organizations or businesses, and from individuals identifying themselves as representatives or officials of organizations or businesses will be made available for public inspection in their entirety.

Authority

This notice is published in accordance with § 1503.1 of the Council on Environmental Quality regulations (40 CFR Parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.

Dated: September 26, 2003.
Aurene M. Martin,
Principal Deputy Assistant Secretary—Indian Affairs.

[FR Doc. 03-25320 Filed 10-6-03; 8:45 am]

BILLING CODE 4310-W7-P